DEPARTMENT OF COMMERCE

National Oceanic and Atmospheric Administration

[RTID 0648-XD522]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of the following: Mackerel Cobia Committee, Dolphin Wahoo Committee, Snapper Grouper Committee, Citizen Science Committee, Habitat and Ecosystem Committee, and the Southeast Data, Assessment and Review (SEDAR) Committee. The meeting week will also include a formal public comment session and a meeting of the Full Council.

DATES: The Council meeting will be held from 8:30 a.m. on Monday, December 4, 2023, until 12 p.m. on Friday, December 8, 2023.

ADDRESSES: Meeting address: The meeting will be held at The Beaufort Hotel, 2440 Lennoxville Road, Beaufort, NC 28516; phone: (252) 728-3000. The meeting will also be available via webinar. See SUPPLEMENTARY INFORMATION.

FOR FURTHER INFORMATION CONTACT: Kim Iverson, Public Information Officer, SAFMC; phone: (843) 302-8440 or toll free: (866) SAFMC-10; fax: (843) 769-4520; email: kim.iverson@safmc.net.

SUPPLEMENTARY INFORMATION: Meeting information, including agendas, overviews, and briefing book materials will be posted on the Council's website at: https://safmc.net/council-meetings/. Webinar registration links for the meeting will also be available from the Council's website.

Public comment: Public comment on agenda items may be submitted through the Council's online comment form available from the Council's website at: https://safmc.net/events/december-2023-council-meeting/. Written comments will be accepted from November 17, 2023, until December 8, 2023. These comments are accessible to the public, part of the Administrative Record of the meeting, and immediately available for Council consideration. A formal public comment session will also be held during the Council meeting.

The items of discussion in the individual meeting agendas are as follows:

Council Session I, Monday, December 4, 2023, 8:30 a.m. Until 12 p.m. (Closed Session)

The Council will meet in Closed Session to receive a litigation brief from NOAA General Counsel and consider appointments to advisory panels, workgroups, and the Scientific and Statistical Committee (SSC) and Socio-Economic Panel (SEP).

Council Session I, Monday, December 4, 2023, 1:30 p.m. Until 5 p.m.

The Council will receive reports from NOAA Office of Law Enforcement, the U.S. Coast Guard, Council liaisons, and state agencies. The Council will also receive a report on Congressional activities relative to fisheries and reports from recent meetings of the Council's Executive Committee, SSC, and Outreach and Communications Advisory Panel (AP).

The Council will receive a presentation from NOAA Fisheries on the Southeast For-Hire Integrated Electronic Reporting (SEFHIER) Program and a presentation from NOAA Fisheries Southeast Fisheries Science Center on an update on the reliability of commercial discards.

Mackerel Cobia Committee, Tuesday, December 5, 2023, 8:30 a.m. Until 10 a.m.

The Committee will receive a report from the Mackerel Cobia AP, review public scoping comments for Amendment 13 to the Coastal Migratory Pelagics Fishery Management Plan addressing catch level adjustments for Spanish mackerel, and receive an update on plans to conduct port meetings for the mackerel fishery.

Dolphin Wahoo Committee, Tuesday, December 5, 2023, 10 a.m. Until 11 a.m.

The Committee will receive a report from the Dolphin Wahoo AP and an update on the Management Strategy Evaluation for Dolphin.

Snapper Grouper Committee, Tuesday, December 5, 2023, 11 a.m. Until 5 p.m., and Wednesday, December 6, 2023, 8:30 a.m. Until 3:45 p.m.

The Committee will receive a briefing on Exempted Fishing Permit applications, an update on amendments to the Snapper Grouper Fishery Management Plan under development, a System Management Plan Workgroup update, and a report from the Wreckfish Advisory Group and Sub-Committee relative to Amendment 48 addressing wreckfish management. The Committee will consider recommendations from the Snapper Grouper AP for Amendment 46 addressing a private recreational permit for the snapper grouper fishery and consider approving the amendment for public hearings.

The Committee will address Regulatory Amendment 36 addressing gag and black grouper vessel limits and on-demand gear for black sea bass and consider approving for public scoping, and consider Snapper Grouper AP recommendations for Amendment 55 addressing management measures for scamp and yellowmouth grouper. The Committee will discuss Regulatory Amendment 35 addressing red snapper management and re-consider submitting the amendment for Secretarial review, and discuss yellowtail snapper management. The Committee will receive an update on Best Fishing Practices Outreach and AP recommendations on topics not on the agenda.

Wednesday, December 6, 2023, 4 p.m.

Public comment will be accepted from individuals attending the meeting in person and via webinar on all items on the Council meeting agenda. The Council Chair will determine the amount of time provided to each commenter based on the number of individuals wishing to comment.

Citizen Science Committee, Thursday, December 7, 2023, 8:30 a.m.-10:30 a.m.

The Committee will review and approve updated research priorities for the Council's Citizen Science Program, receive an update on the SciFish platform and a demonstration, and an update on the Citizen Science Program.

Habitat and Ecosystem Committee, Thursday, December 7, 2023, 10:30 a.m. Until 12 p.m.

The Committee will receive a report from the Habitat Advisory Panel and address plans for the 5-year Essential Fish Habitat Review. The Committee will receive an update on the Habitat Blueprint and review the draft workplan and annual report outline. The Committee will address coral management and provide guidance on the utilization of deepwater coral modelling for management and resubmission of Coral Amendment 10.

SEDAR Committee, Thursday, December 7, 2023, 1:30 p.m. Until 2:30 p.m.

The Committee will receive a report from the SEDAR Steering Committee, address Terms of Reference for the SEDAR assessment of Florida Keys/East Coast Florida and Gulf of Mexico hogfish (SEDAR 94), review the SEDAR schedule, and select species to consider for 2027 assessments.

Council Session II, Thursday, December 7, 2023, 2:30 p.m. Until 5 p.m. and Friday, December 8, 2023, 8:30 a.m. Until 12 p.m.

The Council will receive a litigation brief if needed, receive a staff report, and a report from the Council Coordination Committee. The Council will review Allocations Review Guidelines and consider approval, receive an update on stakeholder meetings planning, and receive a presentation on offshore wind activities. The Council will approve topics for a meeting of the Law Enforcement AP and receive reports from NOAA Fisheries Southeast Regional Office and the Southeast Fisheries Science Center. The Council will receive Committee reports, review its workplan, review upcoming meetings, and take action as necessary. The Council will discuss any other business as needed.

Documents regarding these issues are available from the Council office (see ADDRESSES).

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: November 13, 2023.
Rey Israel Marquez,
Acting Deputy Director, Office of Sustainable Fisheries, National Marine Fisheries Service.

[FR Doc. 2023-25356 Filed 11-15-23; 8:45 am]

BILLING CODE 3510-22-P